DEPARTMENT OF COMMERCE

National Oceanic and Atmospheric Administration

[RIN 0648-XD270]

General Advisory Committee and Scientific Advisory Subcommittee to the U.S. Section to the Inter-American Tropical Tuna Commission; Meeting Announcement

AGENCY: National Marine Fisheries Service (NMFS), National Oceanic and Atmospheric Administration (NOAA), Commerce.

ACTION: Notice of public meeting.

SUMMARY: NMFS announces a public meeting of the Scientific Advisory Subcommittee (SAS) to the U.S. Section to the Inter-American Tropical Tuna Commission (IATTC) on June 4, 2014, and a meeting of the General Advisory Committee (GAC) to the U.S. Section to the IATTC on June 5, 2014. The meeting topics are described under the SUPPLEMENTARY INFORMATION section of this notice.

DATES: The meeting of the SAS will be held on June 4, 2014, from 10 a.m. to 5 p.m. PDT (or until business is concluded), and the meeting of the GAC will be held on June 5, 2014, from 8:30 a.m. to 5 p.m. PDT (or until business is concluded).

ADDRESSES: Both meetings will be held in the Pacific Conference Room (Room 300) at NMFS, Southwest Fisheries Science Center, 8901 La Jolla Shores Drive, La Jolla, California 92037-1508. Please notify Rachael Wadsworth of your plans to attend either meeting, or interest in a teleconference option. The meetings of the SAS and the GAC on June 4 and 5, 2014, will be accessible by webinar and instructions will be emailed to meeting participants.

FOR FURTHER INFORMATION CONTACT: Rachael Wadsworth, West Coast Region, NMFS, at Rachael.Wadsworth@noaa.gov, or at (562) 980-4036.

SUPPLEMENTARY INFORMATION: In accordance with the Tuna Conventions Act, 16 U.S.C. 953, the Department of State has appointed a General Advisory Committee (GAC) and a Scientific Advisory Subcommittee (SAS) to the U.S. Section to the IATTC. The U.S. Section consists of four U.S. Commissioners to the IATTC and a representative of the Deputy Assistant Secretary of State for Oceans and Fisheries. The GAC and SAS support the U.S. Section to the IATTC in an advisory capacity; in particular, they provide advice on the development of U.S. policies and positions. NOAA Fisheries West Coast Regional Office provides administrative support for the GAC and SAS in cooperation with the Department of State. The meetings of the GAC and SAS are open to the public. The time and manner of public comment will be at the discretion of the GAC and SAS chairmen.

The next annual meeting of the IATTC is scheduled from July 7 through July 18, 2014, in Lima, Peru. For more information on the IATTC meeting, please visit the IATTC's Web site: http://www.iattc.org/HomeENG.htm.

Meeting Topics

The SAS meeting topics will include, but are not limited to, the following: (1) Relevant stock status updates, including yellowfin, bigeye, skipjack, North Pacific albacore, and Pacific bluefin tunas; (2) updates on bycatch mitigation measures; (3) evaluation of the IATTC's recommended conservation measures, U.S. proposals, and proposals from other IATTC members; (4) input to the GAC; and (5) other issues that arise.

The GAC meeting topics will include, but are not limited to, the following: (1) Relevant stock status updates, including yellowfin, bigeye, skipjack, North Pacific albacore, and Pacific bluefin tunas; (2) U.S. regulatory changes that could affect tuna fisheries in the eastern Pacific Ocean; (3) the status of U.S legislation to implement the Antigua Convention; (4) input from the SAS; (5) formulation of advice on issues that may arise at the upcoming 2014 IATTC meeting, including the IATTC's recommended conservation measures, U.S. proposals, and proposals from other IATTC members; and (6) other issues as they arise.

Special Accommodations

The meeting location is physically accessible to people with disabilities. Requests for sign language interpretation or other auxiliary aids should be directed to Rachael Wadsworth at (562) 980-4036 by May 26, 2014.

Authority: 16 U.S.C. 951 et seq.

Dated: April 28, 2014.
Emily H. Menashes,
Acting Director, Office of Sustainable Fisheries, National Marine Fisheries Service.

[FR Doc. 2014-09958 Filed 4-30-14; 8:45 am]

BILLING CODE 3510-22-P